NUCLEAR REGULATORY COMMISSION

Advisory Committee on Reactor Safeguards, Meeting of the Subcommittee on Reliability and Probabilistic Risk Assessment; Revised

The meeting of the ACRS Subcommittee on Reliability and Probabilistic Risk Assessment scheduled for May 19, 2000 has been rescheduled for Wednesday, June 28 and Thursday, June 29, 2000 at 8:30 a.m. until the conclusion of business, in Room T-2B3, 11545 Rockville Pike, Rockville, Maryland. On June 28, 2000, the Subcommittee will discuss the proposed final ASME Standard for PRA quality. On June 29, 2000, the Subcommittee will discuss the status of risk-informed revisions to 10 CFR Part 50, including proposed revision to 10 CFR 50.44 concerning combustible gas control systems, issues in the Nuclear Energy Institute letter dated January 19, 2000 (Option 3), and the public comments related to the Advance Notice of Public Rulemaking on 10 CFR 50.69 and Appendix T (Option 2) and associated plans and schedules. All other items pertaining to this meeting remain the same as published in the Federal Register on Monday, May 8, 2000 (65 FR 26644).

FOR FURTHER INFORMATION CONTACT: Mr. Michael T. Markley, cognizant ACRS staff engineer (telephone 301/415-6885) between 7:30 a.m. and 4:15 p.m. (EDT).

Dated: May 10, 2000.
Howard J. Larson,
Acting Associate Director for Technical Support, ACRS/ACNW.

[FR Doc. 00-12301 Filed 5-15-00; 8:45 am]

BILLING CODE 7590-01-P